AGENCY FOR INTERNATIONAL DEVELOPMENT

Proposed Revision of AID 114-2 Anti-Harassment Intake Summary Sheet

AGENCY: United States Agency for International Development.

ACTION: Notice of information collection; request for comment.

SUMMARY: The United States Agency for International Development (USAID), in accordance with the Paperwork Reduction Act (PRA) of 1995, as amended, invites the general public and other Federal agencies to comment on proposed, and continuing information collections, which helps us assess the impact of our information collection requirements and minimize the public's reporting burden. The purpose of this notice is to allow for 30 days of public comment on the AID 114-2 Anti-Harassment Program Intake Summary Sheet, prior to the submission of the information collection request (ICR) to OMB for approval.

DATES: All comments should be submitted within 30 calendar days from the date of this publication.

Written comments and recommendations for the proposed information collection should be sent within 30 days of publication of this notice to www.reginfo.gov/public/do/PRAMain. Find this particular information collection by selecting “Currently under 30-day Review—Open for Public Comments” or by using the search function.

ADDRESSES: Interested persons are invited to submit written comments by email to OCRharassment@usaid.gov.

Please reference the AID 114-2 Anti-Harassment Program Intake Summary Sheet in the subject line of your comments. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Tanya Shorter, Lead Anti-Harassment Program Specialist, USAID, Office of Civil Rights, telephone 771-202-3478 or email at OCRharassment@usaid.gov.

SUPPLEMENTARY INFORMATION: The purpose of the AID 114-2 form is to document basic information regarding allegations of harassment to include the following: Information about involved individuals, including the individual alleged to be harassed, the alleged harasser, and witnesses or others with knowledge of the incident(s): (1) full name, (2) contact information, (3) position title, (4) hiring mechanism, and (5) office/work location; (6) Description of the alleged harassment, including the date(s) the alleged harassment occurred and whether the alleged harassment is alleged to be based on a protected EEO category (race, color, national origin, sex (including pregnancy, gender identity, sexual orientation, or transgender status), age (40 or older), religion, genetic information (including family medical history), physical or mental disability, or retaliation); (7) Whether the supervisor and/or other management official took any steps in response to the alleged harassment; and (8) Any other useful, preliminary information.

Type of Information Collection: AID 114-2 Anti-Harassment Program Intake Summary Sheet.

Type of Request: Notice for public comment.

Originating Office: USAID's Office of Civil Rights.

Respondents: General public and other Federal agencies.

Respondent's obligation to respond: Voluntary.

Estimated number of respondents: 400.

Average time per response: 15 minutes for respondents.

Frequency of response: Once.

Total estimated burden: 100.

Total estimated burden cost: None.

We are soliciting general public and other federal agencies comments to permit USAID to:

• Evaluate whether the proposed information collection is necessary for the proper functions of USAID.

• Enhance the quality, utility, and clarity of the information to be collected.

• Minimize the reporting burden on those who are to respond.

Stephen Shih,
Director, Office of Civil Rights, U.S. Agency for International Development.

[FR Doc. 2024-30954 Filed 12-26-24; 8:45 am]

BILLING CODE 6116-01-P